DEPARTMENT OF ENERGY

Federal Energy Regulatory Commission

[Docket No. RP04-263-001]

Algonquin Gas Transmission Company; Notice of Compliance Filing

June 4, 2004.

Take notice that on May 28, 2004, Algonquin Gas Transmission Company (Algonquin) tendered for filing (i) three firm transportation service agreements with negotiated rates, effective March 1, 2004; and (ii) one interruptible service agreement with discounted and negotiated rates, effective January 1, 2005.

Algonquin states that the purpose of this filing is to comply with the Commission's order issued on May 19, 2004, in Docket Nos. RP04-24 and RP04-263.

Algonquin states that it proposes to implement revised service agreements providing for transportation service to be rendered by Algonquin to USGen New England, Inc. (USGenNE) as part of a Settlement Agreement designed to resolve all issues between Algonquin and USGenNE in Case No. 03-30465 (PM) in the United States Bankruptcy Court For The District Of Maryland (Greenbelt Division) as well as in FERC Docket Nos. RP04-24 and RP04-263.

Algonquin states that copies of its filing have been served on all affected customers of Algonquin, interested state commissions, and to all parties on the Commission's official service list in this proceeding

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-1326 Filed 6-9-04; 8:45 am]

BILLING CODE 6717-01-P